DEPARTMENT OF AGRICULTURE

Submission for OMB Review; Comment Request

June 21, 2002.

The Department of Agriculture has submitted the following information collection requirement(s) to OMB for review and clearance under the Paperwork Reduction Act of 1995, Public law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental Clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Farm Service Agency

Title: Storage of Honey Forfeited to CCC by Honey Producers.

OMB Control Number: 0560-0216.

Summary of Collection: Public Law 80-806, the Commodity Credit Corporation (CCC) Charter Act, authorizes CCC to enter into storage contracts with commercial warehouse operators. The Act permits CCC to enter into various types of contracts as are necessary in the conduct of its business and directs CCC to utilize the usual and customary channels, facilities and arrangements of trade and commerce in its functions of purchasing, warehousing, transporting, processing, or handling of agricultural commodities. The CCC must maintain a List of Approved Warehouses to store CCC owned or loan honey. The use of warehouses on this list reduces the risk of loss faced by CCC by using only those facilities that meet the financial, physical, and managerial requirements of CCC and have met the Standards of Approval of Dry and Cold Storage Warehouses Processed Agricultural Commodities, Extracted Honey, and Bulk Oils. The purpose of requiring warehouses to meet the Standards for Approval is to assure that CCC-owned or loan honey is stored and handled by qualified warehouse operators with the necessary financial resources and managerial skills. The Farm Service Agency (FSA) will collect information using several forms.

Need and Use of the Information: FSA will collect information that will allow CCC to contract for warehouse storage and related services and to monitor and enforce all honey provisions of 7 CFR Part 1423. The information is also required to establish and maintain the Approved List, follow accepted warehousing practices, and represent the minimum burden to carry out various mandatory price support programs.

Description of Respondents: Business or other for-profit.

Number of Respondents: 75.

Frequency of Responses: Recordkeeping; Reporting: On occasion.

Total Burden Hours: 2,539.

Animal and Plant Health Inspection Service

Title: Application for Inspection and Certification of Animal Byproducts.

OMB Control Number: 0579-0008.

Summary of Collection: The Animal and Plant Health Inspection Service (APHIS) on behalf of the Secretary of Agriculture has been delegated the authority (7 U.S.C. 1622, 1624) to establish and implement a system for verifying that the importation and commercial distribution of certain animal byproducts have been processed according to the condition and requirements of the importing country. The laws and regulations that govern the importation and commercial distribution of certain animal byproducts in some foreign countries may require the U.S. exporter to furnish certificates that have been issued or endorsed by APHIS' Veterinary Service. These certificates attest to the class and quality of these products, and also attest to the procedures used to process these products for exportation to the receiving country. APHIS will collect information using VS Form 16-24, “Application for Inspection and Certification of Animal Byproducts.”

Need and Use of the Information: APHIS collects information from applicants requesting that APHIS monitor the processing of the product. After monitoring the processing technique, APHIS certifies that the product was processed according to the conditions and requirements of the importing country. A copy of the form then accompanies the shipment. Without this certification, the importing country would not accept the product, and the applicant would be unable to conduct business with that country.

Description of Respondents: Business or other for-profit.

Number of Respondents: 20.

Frequency of Responses: Reporting: On occasion.

Total Burden Hours: 10.

Animal and Plant Health Inspection Service

Title: User Fee Regulation, 7 CFR part 354 and 9 CFR part 130.

OMB Control Number: 0579-0094.

Summary of Collection: The Food, Agriculture, Conservation and Trade Act of 1990, authorizes the Secretary of Agriculture and the Animal and Plant Health Inspection Service (APHIS) to prescribe and collect fees to cover the cost of providing certain Agricultural Quarantine and Inspection (AQI) services. The Act gives the Secretary the authority to charge for the inspection of international passengers, commercial vessels, trucks, aircraft, and railroad cars, and to recover the costs of providing the inspection of plants and plant products offered for export. The Secretary is authorized to use the revenue to provide reimbursements to any appropriation accounts that incur costs associated with the AQI services provided. APHIS will collect information using several APHIS forms.

Need and Use of the Information: APHIS collects information, which includes the taxpayer identification number, name, and address and telephone number to collect fees. The procedures and the information requested for the passengers and aircrafts are used to ensure that the correct users fees are collected and remitted in full in a timely manner. Without the information from the respondents, APHIS would not be able to ensure substantial compliance with the statute. Noncompliance with the statute could result in misappropriation of public funds and lost revenue to the Federal Government.

Description of Respondents: Business or other for-profit; Not-for-profit institutions; Individuals or households; Federal Government; State, Local or Tribal Government.

Number of Respondents: 88,453.

Frequency of Response: Recordkeeping; Reporting: On occasion.

Total Burden Hours: 7,640.

Animal and Plant Health Inspection Service

Title: Animal Welfare, 9 CFR part 3, Marine Mammals.

OMB Control Number: 0579-0115.

Summary of Collection: The Laboratory Animal Welfare Act (AWA). (Public Law 89-544) enacted August 24, 1966, and amended December 24, 1970 (Public Law 91-579); April 22, 1976 (Public Law 94-279); and December 23, 1985 (Public Law 99-198) requires the U.S. Department of Agriculture (USDA) to regulate the humane care and handling of most warm-blooded animals, including marine mammals, used for research or exhibition purposes, sold as pets, or transported in commerce. This legislation and its amendments were the result of extensive demand by organized animal welfare groups and private citizens requesting a Federal law to protect such animals. USDA, Animal and Plant Health Inspection Service (APHIS), Animal Care (AC) has the responsibility to enforce the Animal Welfare Act and the provisions of 9 CFR, Chapter 1, Subchapter A, which implements the Animal Welfare Act. APHIS will collect information through the use of reports and records that are kept for a period of at least one year to ensure that the animals are cared for in the prescribed manner that is required by regulations.

Need and Use of the Information: APHIS will collect information on the review and evaluation of program compliance by regulated facilities, and provide a workable enforcement system to carry out the requirements of the AWA, and the intent of Congress, on a practical daily basis without resorting to more detailed and stringent regulations and standards which could be more burdensome to regulated facilities.

Description of Respondents: Business or other for-profit; Not-for-profit institutions.

Number of Respondents: 3,190.

Frequency of Responses: Recordkeeping; Reporting: On occasion; Semi-annually.

Total Burden Hours: 15,607.

Agricultural Marketing Service

Title: Plan for Estimating Daily Livestock Slaughter Under Federal Inspection.

OMB Control Number: 0581-0050.

Summary of Collection: The Agriculture Marketing Act of 1946 (7 U.S.C. 1621) Section 203(g), directs and authorizes the collection and dissemination of marketing information including adequate outlook information, on a market area basis, for the purpose of anticipating and meeting consumer requirements aiding in the maintenance of farm income and to bring about a balance between production and utilization. Livestock and Grain News provides a timely exchange of accurate and unbiased information on a current marketing conditions (supply, demand, prices, trends, movement, and other information) affecting trade in livestock, meats, grain, and wool. Administered by the U.S. Department of Agriculture's Agricultural Marketing Service (AMS), this nationwide market news program is conducted in cooperation with approximately 30 State departments of agriculture. The up-to-the minute reports collected and disseminated by professional market reporters are intended to provide both buyers and sellers with the information necessary for making intelligent, informed marketing decisions, thus putting everyone in the marketing system in an equal bargaining position.

Need and Use of the Information: AMS will collect information on estimation of the current day's slaughter at their plant(s) and the actual slaughter of the previous day. The report is used to make market outlook projections and maintain statistical data. The information must be collected and disseminated by an impartial third party. Since the government is a large purchaser of meat, a system to monitor the collection and reporting of data is needed. Collecting this information less frequently would hinder the timely use of this data.

Description of Respondents: Business or other for-profit; Individuals or households; Farms; Federal Government; State, Local or Tribal Government.

Number of Respondents: 72.

Frequency of Responses: Reporting; Weekly; Other: Daily.

Total Burden Hours: 624.

Sondra A. Blakey,
Departmental Information Clearance Officer.

[FR Doc. 02-16171 Filed 6-26-02; 8:45 am]

BILLING CODE 3410-01-M